DEPARTMENT OF THE TREASURY

Privacy Act of 1974: Computer Matching Program

AGENCY: Treasury Inspector General for Tax Administration, Treasury.

ACTION: Notice.

SUMMARY: Pursuant to 5 U.S.C. 552a, the Privacy Act of 1974, as amended, notice is hereby given of the agreement between the Treasury Inspector General for Tax Administration (TIGTA) and the Internal Revenue Service (IRS) which enables TIGTA to conduct a program of computer matches.

EFFECTIVE DATE: October 22, 2001.

ADDRESSES: Comments or inquires may be mailed to the Treasury Inspector General for Tax Administration, 1125 15th Street, NW, Washington, DC 20005.

FOR FURTHER INFORMATION CONTACT: Disclosure Officer, Treasury Inspector General for Tax Administration, (202) 622-4068.

SUPPLEMENTARY INFORMATION: TIGTA's computer matching program will enable TIGTA to prevent and detect fraud and abuse in the programs and operations of the IRS and related entities. TIGTA's computer matching program is designed to proactively detect indicators of misconduct and to discourage/deter the perpetration of illegal acts and misconduct by IRS employees. Further, this program will utilize computer matches to create models to identify alleged misconduct and criminal violations. Computer matching is the most feasible method of performing comprehensive analysis of employee and tax data.

Name of Source Agency:

Internal Revenue Service.

Name of Recipient Agency:

Treasury Inspector General for Tax Administration.

Beginning and Completion Dates:

This program of computer matches is expected to commence on September 24, 2001, but not earlier than the fortieth day after copies of the Computer Matching Agreement are provided to the Congress and OMB unless comments dictate otherwise. The program of computer matches is expected to conclude on March 23, 2003 or at the end of the eighteenth month after the beginning date.

Purpose:

This program is designed to deter and detect fraud, waste, and abuse in Internal Revenue Service programs and operations as well as to identify employees who have violated or are violating laws, rules, or regulations.

Authority:

The Inspector General Act of 1978, 5 U.S.C. Appendix 3, Treasury Order 115-01.

Categories of Individuals Covered:

Current and former employees of the Internal Revenue Service as well as individuals and entities about whom information is maintained in the systems of records listed below.

Categories of Records Covered:

Included in this program of computer matches are records from the following forty-two (42) Treasury or Internal Revenue Service systems:

a. Treasury Integrated Management Information System (TIMIS) [Treasury/DO.002]

b. FinCEN Data Base [Treasury/DO.200]

c. Treasury Integrated Financial Management and Revenue System [Treasury/DO.210]

d. Suspicious Activity Reporting System [Treasury/DO.212]

e. Bank Secrecy Act Reports System [Treasury/DO.213]

f. Correspondence Files and Correspondence Control Files [Treasury/IRS 00.001]

g. Correspondence Files/Inquiries About Enforcement Activities [Treasury/IRS 00.002]

h. Customer Feedback System [Treasury/IRS 00.003]

i. Foreign Information System (FIS) [Treasury/IRS 22.027]

j. Individual Returns Files, Adjustments and Miscellaneous Documents Files [Treasury/IRS 22.034]

k. Unidentified Remittance File [Treasury/IRS 22.059]

l. Automated Non-Master File (ANMF) [Treasury/IRS 22.060]

m. Individual Return Master File (IRMF) [Treasury/IRS 22.061]

n. Combined Account Number File [Treasury/IRS 24.013]

o. Individual Account Number File [Treasury/IRS 24.029]

p. Individual Master File (IMF) [Treasury/IRS 24.030]

q. Business Master File (BMF) [Treasury/IRS 24.046]

r. Audit Underreporter Case File [Treasury/IRS 24.047]

s. Debtor Master File [Treasury/IRS 24.070]

t. Acquired Property Records [Treasury/IRS 26.001]

u. IRS and Treasury Employee Delinquency [Treasury/IRS 26.008]

v. Lien Files (Open and Closed) [Treasury/IRS 26.009]

w. Offer in Compromise (OIC) File [Treasury/IRS 26.012]

x. Record 21, Record of Seizure and Sale of Real Property [Treasury/IRS 26.014]

y. Returns Compliance Programs [Treasury/IRS 26.016]

z. Taxpayer Delinquent Account (TDA) Files [Treasury/IRS 26.019]

aa. Taxpayer Delinquency Investigation (TDI) Files [Treasury/IRS 26.020]

bb. Counsel Automated Tracking System (CATS) Records [Treasury/IRS 90.016]

cc. Audit Trail Lead Analysis System (ATLAS) [Treasury/IRS 34.020]

dd. General Personnel and Payroll Records [Treasury/IRS 36.003]

ee. Medical Records [Treasury/IRS 36.005]

ff. Enrolled Agents and Resigned Enrolled Agents [Treasury/IRS 37.009]

gg. Examination Administrative File [Treasury/IRS 42.001]

hh. Audit Information Management System (AIMS) [Treasury/IRS 42.008]

ii. Internal Revenue Service Employees' Returns Control Files [Treasury/IRS 42.014]

jj. Classification/Centralized and Scheduling Files [Treasury/IRS 42.016]

kk. Compliance Programs and Projects Files [Treasury/IRS 42.021]

ll. Unified System for Time and Appeals Records UNISTAR [Treasury/IRS 44.003]

mm. Case Management and Time Reporting System [Treasury/IRS 46.002]

nn. Controlled Accounts (Open and Closed) [Treasury/IRS 46.004]

oo. Treasury Enforcement Communications System (TECS) Criminal Investigation Division [Treasury/ IRS 46.022 ]

pp. Automated Information Analysis System [Treasury/IRS 46.050]

Dated: September 10, 2001.
W. Earl Wright, Jr.,
Chief Management and Administrative Programs Officer.

[FR Doc. 01-23368 Filed 9-19-01; 8:45 am]

BILLING CODE 4810-01-P